DEPARTMENT OF THE INTERIOR

Bureau of Land Management

[CO-140-1610-DT-009C]

Notice of Availability of the Record of Decision for the Resource Management Plan Amendment (RMPA) for Portions of the Roan Plateau Planning Area and Supplemental Information for Proposed Areas of Critical Environmental Concern (ACEC) With Associated Resource Use Limitations for Public Lands in Garfield and Rio Blanco Counties, CO

AGENCY: Bureau of Land Management, Interior.

ACTION: Notice of availability.

SUMMARY: In accordance with the National Environmental Policy Act (NEPA) and the Federal Land Policy and Management Act (FLPMA), the Bureau of Land Management (BLM) announces the availability of the RMPA/Record of Decision (ROD) pertaining to all lands within the Roan Plateau planning area located in the Glenwood Springs Field Office with the exception of those areas proposed as ACECs in the Proposed Resource Management Plan Amendment/Final Environmental Impact Statement (PRMPA/FEIS). This notice also provides supplemental information and announces an associated 60-day comment period regarding four proposed ACECs identified in the PRMP/FEIS, as required at 43 CFR 1610.7-2(b). Final RMPA decisions for portions of the planning area, which include proposed ACECs, are deferred until comments are analyzed.

DATES: The comment period pertaining to the proposed ACEC designations will commence with the publication of this notice in the Federal Register, and will end 60 days following its publication. All comments must be received no later than the close of the last day of the comment period.

ADDRESSES: Copies of the RMPA/ROD for the Roan Plateau planning area and the PRMPA/FEIS are available upon request from the Glenwood Springs Field Office, Bureau of Land Management, 50629 Highways 6 and 24, Glenwood Springs, CO 81601, or via the Internet at http://www.blm.gov/rmp/co/roanplateau.

Comments on the proposed ACEC designations should be sent to the above address. Only comments on the proposed ACECs that are identified in the PRMPA/FEIS will be considered. All comments must be in writing. Comments, including names and street addresses of respondents, will be available for public review at the Bureau of Land Management, Glenwood Springs Field Office during regular business hours, 8 a.m. to 4:30 p.m., Monday through Friday, except holidays, and will be subject to disclosure under the Freedom of Information Act (FOIA). Before including your address, phone number, e-mail address, or other personal identifying information in your comment, you should be aware that your entire comment—including your personal identifying information—may be made publicly available at any time. While you can ask us in your comment to withhold your personal identifying information from public review, we cannot guarantee that we will be able to do so. All submissions from organizations or businesses, or individuals representing them, will be made available for public inspection in their entirety.

FOR FURTHER INFORMATION CONTACT: Jamie Connell, Field Manager, Bureau of Land Management Glenwood Springs Field Office, 50629 Highways 6 & 24, Glenwood Springs, CO 81601, or by telephone at (970) 947-2800; or Greg Goodenow at (303) 239-3789.

SUPPLEMENTARY INFORMATION: The Roan Plateau RMPA/ROD was developed with broad public participation through a 6-year collaborative planning process. This RMPA/ROD addresses the management of approximately 52,568 acres of public land in the planning area. Final RMPA decisions for portions of the planning area where ACECs are proposed (approximately 21,034 acres) will be deferred until comments are analyzed and considered from the 60-day public comment period.

This RMPA/ROD includes management actions to meet the desired resource conditions for upland and riparian vegetation, wildlife habitats, cultural and visual resources, mineral resources, and recreation. The approved RMPA/ROD for portions of the Roan Plateau is essentially the same as the Proposed Alternative in the PRMPA/FEIS, published in September 2006. No inconsistencies with State or local plans, policies, or programs were identified during the Governor's consistency review of the PRMPA/FEIS. As a result, only minor editorial modifications were made in preparing the RMPA/ROD for portions of the Roan Plateau planning area. These modifications corrected errors that were noted during review of the PRMPA/FEIS, and provide further clarification for some of the decisions. A list of modifications is included within the RMPA/ROD that identifies the location of the corrections in the PRMPA/FEIS.

BLM received 11 protests to the PRMPA/FEIS. In order to resolve one protest issue raised by the public, the BLM determined that it is also necessary to identify the four proposed ACECs and associated resource use limitations in this NOA that were presented in the PRMPA/FEIS, as well as to provide a 60-day public comment period. Therefore, the proposed ACECs identified in this NOA fulfills a regulatory requirement, and supplements the NOA for the PRMP/FEIS published in the Federal Register, Volume 71, Number 173, on Thursday, September 7, 2006.

The BLM accepted and considered input from the public on ACEC values and potential designation during scoping for the RMPA/EIS, during public comment on alternative development, and during the comment period on the Draft RMPA/Draft EIS (DRMPA/DEIS). The alternatives analyzed in the DRMPA/DEIS varied in the number and size of potential ACECs. The DRMPA/DEIS considered the designation of no ACECs in Alternatives I and V (zero acres), two ACECs in Alternatives III and IV (11,529 acres in each alternative), and four ACECs (36,184 acres) in Alternative II.

Input from the public and cooperating agencies was considered in developing the PRMPA/FEIS, which proposes four ACECs (21,034 acres). The four proposed ACECs and their associated relevant and important resource values are as follows: (1) Anvil Points (4,955 acres)—visual resources/aesthetics, wildlife habitat, botanical/ecological values; (2) Magpie Gulch (4,698 acres)—visual resources/aesthetics, wildlife habitat, botanical/ecological values; (3) East Fork Parachute Creek (6,571 acres)—visual resources/aesthetics, wildlife habitat, fisheries habitat, botanical-ecological values; and (4) Trapper/Northwater Creek (4,810 acres)—wildlife habitat, fisheries habitat, botanical/ecological values.

For all proposed ACECs, surface disturbing activities will be limited to protect all relevant and important values within the areas. Such activities include oil and gas development, rights-of-way designation, and road construction. Limitations include no ground disturbance or no surface occupancy prescriptions for activities within the ACECs, as well as site specific relocation or controlled surface use prescriptions. Further, conditions of approval or permitting level requirements may be applied. Detailed discussions of the proposed protective measures for the proposed ACECs are contained in Table 2-2 and Appendix C of the PRMPA/FEIS.

Dated: March 29, 2007.
Sally Wisely,
State Director, Colorado.

[FR Doc. E7-10964 Filed 6-8-07; 8:45 am]

BILLING CODE 4310-JB-P